DEPARTMENT OF EDUCATION

Applications for New Awards; Enhanced Assessment Instruments Grants Program—Enhanced Assessment Instruments—Kindergarten Entry Assessment Competition

Correction

In notice document 2013-12212 appearing on pages 31359-31365 in the issue of May 23, 2013, make the following correction:

On page 31359, in the first column, the Subject in the heading is corrected to read as set forth above.

[FR Doc. C1-2013-12212 Filed 5-29-13; 8:45 am]

BILLING CODE 1505-01-D